DEPARTMENT OF THE INTERIOR

National Park Service

Draft Environmental Impact Statement; Fire Management Plan; Golden Gate National Recreation Area; Marin, San Francisco and San Mateo Counties, California; Notice of Availability

SUMMARY: Pursuant to § 102(2)(C) of the National Environmental Policy Act of 1969 (Pub. L. 91-190, 42 U.S.C. 4321-4347, January 1, 1970, as amended), and the Council on Environmental Quality Regulations (40 CFR parts 1500 through 1508), the National Park Service, Department of the Interior, has prepared a Draft Environmental Impact Statement identifying and evaluating three alternatives for a Fire Management Plan for Golden Gate National Recreation Area (GGNRA), in northern California. Potential impacts and mitigating measures are described for each alternative. The alternative selected after this conservation planning and environmental impact analysis process will serve as a blueprint for fire management actions for the GGNRA over the next 10-15 years.

This Fire Management Plan (FMP) and Draft Environmental Impact Statement (DEIS) identifies and analyzes two action alternatives, and a No Action alternative, to update and revise the 1993 Fire Management Plan for the GGNRA, Muir Woods National Monument and Fort Point National Historic Site; the latter two sites are administered by GGNRA. The 1993 FMP focuses primarily on natural resource management issues and needs to be revised to more fully address cultural resource concerns. In addition, the revisions will bring the FMP into conformance with current federal wildland fire policies and standards, address lands added to GGNRA since 1993, and plan for fire hazard reduction in the extensive wildland urban interface on the park's boundary.

This FMP DEIS evaluates fire management options for approximately 15,000 acres of GGNRA's nearly 75,000 legislated acres. The planning area for the FMP contains lands in Marin, San Francisco and San Mateo counties—three of the nine counties that make up the San Francisco Bay area. Several of the smaller national park sites are within the City of San Francisco itself; remaining areas are in southern and southwestern Marin County, northwestern San Mateo County and the Phleger Estate, in southeastern San Mateo County near the Town of Woodside. The FMP planning area does not included the following lands:

(1) The northern lands of GGNRA, comprising 18,000 acres north of the Bolinas-Fairfax Road in western Marin County, which are managed by the Point Reyes National Seashore (PRNS) under an agreement between the two park units. Fire management responsibilities for these northern lands are addressed in the PRNS FMP (approved October 29, 2004).

(2) Lands within the jurisdictional boundary of GGNRA that are not directly managed by the National Park Service. This includes the San Francisco Watershed, managed by the San Francisco Public Utilities Commission (with overlays of NPS easements) and the interior portion of the Presidio of San Francisco (referred to as Area B), which is managed by the Presidio Trust, a federal corporation. The coastal portion of the Presidio (Area A), managed by the GGNRA, is included in the planning area.

In addition to lands currently under the management of the NPS, the FMP planning area includes those lands within the legislative boundary that may pass to NPS management in the near future. These areas, all in San Mateo County, include Cattle Hill, Pedro Point, Picardo Ranch, and northern coastal bluffs along Highway 1.

GGNRA was created in 1972 to preserve for public use and enjoyment certain areas of Marin and San Francisco Counties, California, possessing outstanding natural, historic, scenic, and recreational values, and in order to provide for the maintenance of needed recreational open space necessary to urban environment and planning. The legislation charged the Secretary of the Interior to “utilize the resources [of GGNRA] in a manner which will provide for recreation and educational opportunities consistent with sound principles of land use planning and management” and to “preserve the recreation area, as far as possible, in its natural setting, and protect it from development and uses which would destroy the scenic beauty and natural character of the area.”[16 U.S.C. 460bb]. GGNRA protects a remarkably diverse cluster of coastal ecosystems, landscapes, and historical sites, from the rural hills of Tomales Bay and the San Mateo watershed to the scenic headlands and military outposts of the Golden Gate and the urban shorelines of San Francisco. This diversity centers on the singular geographic feature of Golden Gate, portal between the United States and the Pacific Basin, and includes a Civil War fort, an ancient redwood forest, the former Alcatraz federal penitentiary, and most of the last remaining open spaces and forests on the ocean coast of the metropolitan Bay Area. The parklands include beaches, coastal headlands, grasslands, coastal scrub, Douglas fir and coast redwood forests, freshwater and estuarine wetlands, marine terraces, and riparian corridors. GGNRA contains the highest concentration of historic buildings (over 1,250 buildings and five national historic landmark districts) in any single unit of the National Park System.

In the past, wildland fire occurred naturally in the park as an important ecosystem process that kept forest fuels and vegetation structure within the natural range of variability. Past logging and fire suppression activities have lead to increased fuel loads and changes in vegetation community structure. This has increased the risk of large, high-intensity wildland fire within the park, threatening the park's developed zones, its natural and cultural resources, and residential areas close to the park boundary in the wildland urban interface zone.

Alternatives. Though the three alternatives vary in the strategies used to achieve fire management goals, there are several common elements of the FMP that are the same under each alternative. The fire management approach for Muir Woods National Monument would be the same, including the use of prescribed fire as well as mechanical fuel reduction. Some actions, including continued implementation of the Wildland Urban Interface Initiative, maintenance of the park's fire roads and trails, vegetation clearing around park buildings, suppression of unplanned ignitions, public information and education, construction of a new fire cache for equipment storage and continuation of the current fire monitoring program, would be carried out under all three alternatives. The three alternatives meet the park's goals and objectives to an acceptably large degree, and are within constraints imposed by regulations and policies, by risks associated with the wildland urban interface, and by technical and funding limitations. The three alternatives differ in combinations of prescribed burning and mechanical treatments in the park interior versus parklands that share a boundary with development. Each alternative has an upper limit set on the number of acres that could be treated by either prescribed burning or mechanically treated in one year (see Table 1).

Alternative A (No Action)—This alternative would update the 1993 FMP only to reflect changes to the park's boundary (e.g., addition of new lands since 1993) and current national fire management policies. The focus of the 1993 FMP program is on vegetation management through the application of prescribed fire to perpetuate fire-dependent natural systems. In recent practice, many fire management actions have been mechanical fuel reduction projects (e.g., mowing, cutting to remove non-native shrubs and trees, and selective thinning in forested stands) funded through the Wildland-Urban Interface Program. This alternative would rely on the continued implementation of the 1993 FMP supplemented by mechanical fuel reduction along with prescribed fire, and suppression of all wildfires. Current research projects would continue and would focus on the role of fire to enhance natural resources and the effects of fire on key natural resources to determine the effectiveness of various fuel treatments.

Alternative B—Hazard Reduction and Restricted Fire Use for Research and Resource Enhancement. This alternative would emphasize use of mechanical methods to reduce fire hazards and fuel loads in areas with the highest risks. Compared to Alternative A, Alternative B would increase the number of acres mechanically treated each year, with a focus on the reduction of high fuel loads in the wildland urban interface area. Limited use of prescribed fire could occur for research purposes within the park interior. Research projects would examine the role of fire to enhance natural resources and the effects of fire on key natural resources to determine the effectiveness of various fuel treatments. Natural and cultural resource goals and objectives would be integrated into the design and implementation of fuel reduction projects.

Alternative C (Preferred Alternative) (Environmentally Preferred)—Hazard Reduction and Resource Enhancement through Multiple Treatments. This alternative would allow for the greatest number of acres to be treated on an annual basis to achieve fire management and resource objectives through the use of a broad range of fire management strategies. Mechanical treatment and prescribed burning would be used throughout the park as a means to reduce fuel loading and achieve resource enhancement goals. Mechanical treatments, complemented by prescribed fire, would be employed to assist with restoration and maintenance of the park's natural and cultural resources. An expanded research program would examine the role of fire and mechanical treatments in enhancing natural resources, reducing fuel loading, and specific impacts of fire on key natural resources; research would also be used to adaptively guide the fire management program and help to maximize the benefits to park resources. As in Alternative B, natural and cultural resource goals and objectives would be integrated into the design and implementation of fuel reduction projects.

Table 1.—Summary of Alternatives by Annual Acres Treated and Treatment Type
[Source: GGNRA Fire Management Office, 2004.]
Treatment type | County | Alternative A¹ | Alternative B | Alternative C
Mechanical Treatment ² (ac/year) | Marin | 75 | 180 | 225
| San Francisco | 5 | 10 | 10
| San Mateo | 20 | 40 | 40
Total |  | 100 | 230 | 275
Prescribed Burning (ac/year) | Marin | 100 | 120 | 285
| San Francisco | <1 | <1 | <1
| San Mateo | 10 | 0 | 35
Total |  | 110 | 120 | 120
¹ Estimated based upon current practice, since 1993 FMP did not specify number of acres per year for treatments.
² Includes fuel reduction through methods such as mowing, cutting, short-term grazing, and selective thinning.

Planning Background: Public scoping for the FMP EIS began on August 8, 2003, with publication in the Federal Register of the Notice of Intent to prepare an environmental impact statement for the GGNRA Fire Management Plan. In addition to the Federal Register notice, the scoping period was publicized through a mass mailing to the public and a notice advertising scoping workshops, which were held in each of the three counties in the planning area. Scoping comments were solicited from the public, regulatory agencies, local fire departments and park staff from August 8, 2003, to December 5, 2003.

Comments: The FMP/DEIS will be sent directly to those who request it in writing received by regular mail or e-mail. Copies and compact discs of the document will be available at park headquarters, park visitor centers, and at local and regional libraries. The complete document will be posted on the park's Web site at http://www.nps.gov/goga/admin/planning. Written comments must be postmarked (or transmitted by e-mail) no later than sixty days from the date of EPA's notice of filing published in the Federal Register—as soon as it is confirmed, the close of the commenting period will also be posted on the park's Web site. All comments should be addressed to the Superintendent and mailed to Golden Gate National Recreation Area, Fort Mason, Building 201, San Francisco, CA 94123 (Attn: Fire Management Plan); E-mail should be sent to: goga_fire@nps.gov (please mark the e-mail subject line “FMP DEIS Comments”). A public meeting will be held be held to hear comments on the DEIS. Please visit the GGNRA Web site at http://www.nps.gov/goga/ for the date, location, and time, or call the GGNRA Fire Management Office at (415) 331-6374.

All comments are maintained in the administrative record and will be available for public review at park headquarters. If individuals submitting comments request that their name and/or address be withheld from public disclosure, it will be honored to the extent allowable by law. Such requests must be stated prominently in the beginning of the comments. As always, NPS will make available to public inspection all submissions from organizations or businesses and from persons identifying themselves as representatives or officials of organizations and businesses; and anonymous comments may not be considered.

Decision Process: It is anticipated that the Final Environmental Impact Statement for the Fire Management Plan would be completed in spring, 2005. The availability of the Final EIS will be published in the Federal Register, and announced via mailings and Web site postings. Not sooner than thirty days after the distribution of the Final EIS/FMP, a Record of Decision may be approved (as a delegated EIS the approving official is the Regional Director, Pacific West Region of the National Park Service). After approval, the official responsible for implementation of the FMP will be the General Superintendent, Golden Gate National Recreation Area.

Dated: February 15, 2005.
George J. Turnbull,
Acting Regional Director, Pacific West Region.

[FR Doc. 05-5448 Filed 3-18-05; 8:45 am]

BILLING CODE 4312-FN-P